NUCLEAR REGULATORY COMMISSION

10 CFR Chapter 1

[Docket No. PRM-73-17; NRC-2013-0214]

Programmable Logic Computers in Nuclear Power Plant Control Systems

AGENCY: Nuclear Regulatory Commission.

ACTION: Petition for rulemaking; notice of acceptance and docketing.

SUMMARY: The U.S. Nuclear Regulatory Commission (NRC) received a petition for rulemaking (PRM), PRM-73-17, filed on March 14, 2013, as supplemented through December 19, 2013, from Mr. Alan Morris (the petitioner). The petitioner requests that the NRC require “new-design programmable logic computers” to be installed in the control systems of nuclear power plants to block malware attacks on their industrial control systems of those facilities. In addition, the petitioner requests that nuclear power plant staff be trained “in the programming and handling of the non-rewriteable memories” for nuclear power plants. The NRC is not requesting public comment on this petition at this time.

DATES: February 7, 2014.

ADDRESSES: Please refer to Docket ID NRC-2013-0214 when contacting the NRC about the availability of information for this petition. You may access publicly-available information related to this petition by any of the following methods:

• Federal Rulemaking Web site: Go to http://www.regulations.gov and search for Docket ID NRC-2013-0214. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly-available documents online in the NRC Library at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland, 20852.

FOR FURTHER INFORMATION CONTACT: Robert H. Beall, Office of Nuclear Reactor Regulation, U.S. Nuclear Regulatory Commission, Washington, DC 20555-0001; telephone: 301-415-3814, email: Robert.Beall@nrc.gov.

SUPPLEMENTARY INFORMATION:

I. The Petitioner.

Mr. Alan Morris of Morris and Ward, Consulting Engineers, filed a petition for rulemaking with the Commission on March 14, 2013, as supplemented through December 19, 2013 (ADAMS Accession No. ML14016A458). The petitioner states that he is interested in protecting the critical infrastructure of the United States, and has developed and patented “hacker-blocking technology” for non-rewriteable memories to be used with programmable logic computers (PLCs) of industrial control systems.

II. The Petition

The petitioner requests that the NRC require “new-design programmable logic computers” to be installed in the control systems of critical infrastructure facilities (nuclear power plants), in order to “block malware attacks on the industrial control systems of those facilities.” The petitioner also requests that nuclear power plant staff be trained to maintain and secure records of all memory programming, and recommends maintenance in secure storage of programmed memories that may be again employed, as “the control systems of critical facilities are essentially steady-state.” The petitioner states that the proposed action would “[r]educe impact on quality of the natural and social environments by stopping disastrous events at critical facilities.”

The petition notes that “[a]n industrial control system (ICS) is used to control equipment in a local area such as a production plant, while a supervisory control and data acquisition (SCADA) system is used to control equipment in a wide geographical area such as an electric power grid.” The petition goes on to say that “[t]he basic element of an ICS is an industrial controller known as a programmable logic computer (PLC). Programmed into the memory of the PLC are the operations of the equipment in the ICS.”

The complete text of the petition, as amended (ADAMS Accession No. ML14016A458), is available for review as described in the ADDRESSES section of this document.

Because the petitioner has satisfied the acceptance criteria in § 2.802(c) of Title 10 of the Code of Federal Regulations, the NRC has accepted, and will review the petition to determine whether it should be considered in the rulemaking process.

The NRC is not requesting public comment on this petition at this time.

Dated at Rockville, Maryland, this 27th day of January 2014.
For the Nuclear Regulatory Commission.
Annette L. Vietti-Cook,
Secretary of the Commission.

[FR Doc. 2014-02493 Filed 2-6-14; 8:45 am]

BILLING CODE 7590-01-P